DEPARTMENT OF HEALTH AND HUMAN SERVICES

National Institutes of Health

Center for Scientific Review; Amended Notice of Meeting

Notice is hereby given of a change in the meeting of the Center for Scientific Review Special Emphasis Panel, November 22, 2010, 1:30 p.m. to November 22, 2010, 5 p.m., National Institutes of Health, 6701 Rockledge Drive, Bethesda, MD 20892 which was published in the Federal Register on October 20, 2010, 75 FR 64736.

The meeting will be held November 29, 2010. The meeting time and location remain the same.

The meeting is closed to the public.

Dated: November 4, 2010.
Jennifer S. Spaeth,
Director, Office of Federal Advisory Committee Policy.

[FR Doc. 2010-28467 Filed 11-10-10; 8:45 am]

BILLING CODE 4140-01-P